DEPARTMENT OF HOMELAND SECURITY

Coast Guard

33 CFR Part 117

[CGD01-03-040]

Drawbridge Operation Regulations: Cape Cod Canal, MA

AGENCY: Coast Guard, DHS.

ACTION: Notice of temporary deviation from regulations.

SUMMARY: The Commander, First Coast Guard District, has issued a temporary deviation from the drawbridge operation regulations that govern the Conrail Railroad Bridge across Cape Cod Canal, mile 0.7, at Bourne, Massachusetts. This temporary deviation will allow the bridge to remain in the closed position from 6 a.m. through 1 p.m. on May 22, 2003 and May 27, 2003. This temporary deviation is necessary to facilitate scheduled structural repairs at the bridge.

DATES: This deviation is effective from May 22, 2003 through May 27, 2003.

ADDRESSES: Materials referred to in this document are available for inspection or copying at the First Coast Guard District, Bridge Branch Office, 408 Atlantic Avenue, Boston, Massachusetts, 02110, between 7 a.m. and 3 p.m., Monday through Friday, except Federal holidays. The telephone number is (617) 223-8364. The First Coast Guard District Bridge Branch maintains the public docket for this temporary deviation.

FOR FURTHER INFORMATION CONTACT: Mr. John McDonald, Project Officer, First Coast Guard District Bridge Branch, (617) 223-8364.

SUPPLEMENTARY INFORMATION: The vertical clearance under the Conrail Railroad Bridge in the open position is 135 feet at mean high water and 139 feet at mean low water. The draw is normally in the fully open position except for the passage of rail traffic. The existing regulations are listed at 33 CFR 117.589.

The owner of the bridge, the U. S. Army Corps of Engineers (USACE), requested a temporary deviation from the Drawbridge Operation Regulations to facilitate scheduled maintenance, the replacement of the rail tracks, at the bridge. This work must be performed with the bridge in the closed position.

The mariners who normally use this waterway were advised about the necessary repairs at the bridge and the temporary closures that will be required in order to facilitate the repairs. No objections were received.

Under this temporary deviation the Conrail Railroad Bridge, mile 0.7, may remain in the closed position from 6 a.m. through 1 p.m. on May 22, 2003 and May 27, 2003.

Mariners may contact the U.S. Army Corps of Engineers Marine Traffic Controller 24-hour telephone line at (508) 759-4431 for the operational status of the bridge.

This deviation from the operating regulations is authorized under 33 CFR 117.35, and will be performed with all due speed in order to return the bridge to normal operation as soon as possible.

Dated: May 7, 2003.
Vivien S. Crea,
Rear Admiral, U.S. Coast Guard, Commander, First Coast Guard District.

[FR Doc. 03-11990 Filed 5-13-03; 8:45 am]

BILLING CODE 4910-15-P